NUCLEAR REGULATORY COMMISSION

[Docket No. 50-271]

Vermont Yankee Nuclear Power Corporation; Vermont Yankee Nuclear Power Station; Environmental Assessment and Finding of No Significant Impact

The U.S. Nuclear Regulatory Commission (NRC) is considering amending a previously granted approval to dispose of slightly contaminated soil under 10 CFR 20.2002 by expanding the allowable waste stream to include low levels of radioactively contaminated soil generated as a residual byproduct of other types of on-site construction activities. This approval is requested by Vermont Yankee Nuclear Power Corporation (the licensee), for operation of the Vermont Yankee Nuclear Power Station (Vermont Yankee), located in Windham County, Vermont.

Environmental Assessment

Identification of the Proposed Action

The proposed action would amend the previously granted approvals to dispose of slightly contaminated septic waste, cooling tower silt, soil/sand from roadways and walkways, to include low levels of radioactively contaminated construction soil generated as a residual byproduct of on-site construction activities such as design change implementation and land maintenance.

The proposed action is in accordance with the licensee's request dated September 11, 2000.

The Need for the Proposed Action

The proposed action is needed to dispose of slightly contaminated soil on-site. In accordance with 10 CFR 20.2002, which requires that a licensee apply to the Commission for approval of proposed procedures, not otherwise authorized in the regulations, to dispose of licensed material generated by the licensee's activities. The licensee identified 28.3 cubic meters of approved materials (i.e., soil/sand from roadways and walkways, and soil from on-site construction-related activities including, but not limited to, design change implementation and land maintenance) to be disposed of on-site on an annual basis until the expiration of the plant's operating license in 2013. Since the previous approval did not include disposal of soil generated as a result of certain construction-related activities, the licensee is requesting approval to amend the previously granted application pursuant to 10 CFR 20.2002, dated June 15, 2000.

Environmental Impacts of the Proposed Action

The NRC has completed its evaluation of the proposed action and concludes that the proposed action will be bound by the conditions for the on-site disposals previously reviewed and approved by the NRC. The licensee will continue to use the designated and approved areas on their property (approximately 1.9 acres) and use approximately 10 acres which have not been previously used for disposal. The amount of soil and soil/sand materials that will be disposed has not increased, and will remain at 28.3 cubic meters. Determination of the radiological dose impact of the new material has been made based on the same dose assessment models and pathway assumptions used in the previous submittals. The licensee's proposal was evaluated against the NRC staff's guidelines for on-site disposal and found not to be a significant radiological environmental impact. The bounding dose conditions for the previously approved materials will not be exceeded. The potential exposure to members of the general public from the radionuclides in material was determined to be less than 1 mrem/year and meets the NRC staff's guidelines.

The proposed action will not increase the probability or consequences of accidents, no changes are being made in the types of any effluents that may be released offsite, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action. Denial of the application would result in no change in current environmental impacts. The environmental impacts of the proposed action and the alternative action are similar. If the proposed action is denied, the licensee may be required to ship the material to an off-site low-level radioactive waste disposal facility. Transportation impacts would increase as a result of the additional volume of low-level waste generated for disposal. Furthermore, the costs associated with off-site disposal greatly exceed the cost of on-site disposal without no significant benefit to the environment.

Alternative Use of Resources

This action does not involve the use of any resources not previously considered in the Final Environmental Statement for the Vermont Yankee Nuclear Power Station.

Agencies and Persons Consulted

In accordance with its stated policy, on April 12, 2001, the staff consulted with the Vermont State Official, William Sherman, of the Department of Public Service, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated September 11, 2000. Documents may be examined, and/or copied for a fee, at the NRC's Public Document Room, located at One White Flint North, 11555 Rockville Pike (first floor), Rockville, Maryland. Publicly available records will be accessible electronically from the Agencywide Documents Access and Management System (ADAMS) Public Electronic Reading Room on the Internet at the NRC web site, http://www.nrc.gov/NRC/ADAMS/index.html. If you do not have access to ADAMS or if there are problems in accessing the documents located in ADAMS, contact the NRC Public Document Room (PDR) Reference staff at 1-800-397-4209, 301-415-4737 or by email to pdr@nrc.gov.

Dated at Rockville, Maryland, this 8th day of June 2001.
For the Nuclear Regulatory Commission.
Robert M. Pulsifer,
Project Manager, Section 2, Project Directorate I, Division of Licensing Project Management, Office of Nuclear Reactor Regulation.

[FR Doc. 01-14977 Filed 6-13-01; 8:45 am]

BILLING CODE 7590-01-P